DEPARTMENT OF AGRICULTURE

Forest Service

Blue Fire Forest Recovery Project, Lassen and Modoc Counties, CA

AGENCY: Forest Service, USDA.

ACTION: Notice of intent to prepare an environmental impact statement.

SUMMARY: The Forest Service, Modoc National Forest, Warner Mountain Ranger District (Forest Service) will prepare an environmental impact statement (EIS) to disclose the environmental consequences of the proposed Blue Fire Forest Recovery Project, and alternatives to the proposal. The decision to be made, is to select this proposed action or one of the alternatives to this proposal. The alternatives to this proposal will include a no-action alternative.

The Blue Fire Forest Recovery Project area is located approximately 20 miles southeast of Alturas CA and 9 miles east of Likely, CA, within Lassen and Modoc Counties, CA. The total project area is approximately 33,500 acres, all of which are National Forest System lands.

The Forest Service proposes to move wildland resource conditions within the Blue Fire (August 2001) towards the desired conditions described by the Modoc National Forest Land and Resource Management Plan (MLRMP), as amended by the Sierra Nevada Forest Plan Amendment Record of Decision—Jan 2001 (SNROD), and to implement Standards and Guidelines described by MLRMP as amended by SNROD. Within the Blue Fire, but outside the South Warner Wilderness (SWW), and outside of Inventoried Roadless Areas (IRAs), the Forest Service proposes to take actions. The areas where actions are proposed are identified as Old Forest Emphasis Area and General Forest, in the SNROD. Actions proposed within the Old Forest Emphasis Area are designed to benefit landscape conditions for old forest structure and function. Where the Blue Fire has killed at least 75% of the trees in a timber stand, the Forest Service is proposing to provide long-term watershed protection by reestablishing timber stands with appropriate mixes of native tree species and by reducing the threat of catastrophic wildfire losses in these plantations. The Forest Service proposes to remove heavy fuels created by the Blue Fire through implementation of salvage timber sales. Salvage timber sales are the proposed method of fuels removal because now, and for a short time into the future, these heavy fuels have a commercial value that will support the costs of their removal and contribute to subsequent reforestation and environmental restoration work. If these trees are not harvested, they will deteriorate over time, fall down and result in fuel loadings that will not meet Standards and Guidelines of the MLRMP or SNROD. In these timber stands where salvage harvest is proposed, planting and subsequent activities crucial to plantation survival are proposed. Other activities are proposed to meet the direction of MLRMP and SNROD.

Following is a brief summary of activities proposed: (1) No salvage harvest will occur in the South Warner Wilderness nor any of the three Inventoried Roadless Areas; (2) no salvage harvest will occur in any timber stands with less than 75% of the trees killed by the Blue Fire, this includes one Great Gray Owl Protected Activity Center (PAC), one complete goshawk PAC and about ½ of another goshawk PAC; (3) where salvage harvest occurs, no live trees will be cut; consistent with SNROD, 30 of the largest dead trees per 10 acres will be retained in all treatment areas; consistent with SNROD, 5 logs (min. 20″ dia. and 10 ft.) will be left for woody debris; protection for Riparian Conservation Areas (RCAs) will be consistent with SNROD; all dead trees 8” DBH and larger and excess to snag and down log needs will be removed by salvage harvest; all dead trees between 6” and 8” DBH will be removed by subsequent service contracts; ground-based harvest systems with designated skid trails will be used on approximately 9,500 acres and helicopter harvest will occur on approximately 600 acres, whole tree removal (including tops) to landing is required; (4) salvage of 2 RCAs is included in the description of activity 3, except that in RCAs the maximum size harvest tree is 24” DBH and both RCAs will be helicopter harvested; (5) salvage of the Bald Eagle Management Area is included in the description of activity 3, except that all dead trees within 200 feet of the shoreline of Blue Lake will remain uncut; (6) removal and/or rearrangement of dead trees between 1” and 5” DBH within harvest stands is proposed on 292 acres of Urban Wildland Intermix Zones and 250 acres of Strategically Placed Area Treatments; (7) Reforest 10,100 acres of harvest units and approximately 200 acres of existing plantations killed by the Blue Fire, by hand planting appropriate mixes of species, periodically removing brush from around planted trees by hand grubbing, controlling gopher populations by underground baiting with strychnine treated pellets as needed to ensure plantation survival and installing biodegradable plastic tubing on tree seedlings to prevent above ground animal damage as needed to ensure plantation survival, wider planting spacing in fuel treatments described in activity 6 will be maintained over time; (8) Road activities include: 5 miles of aggregate resurfacing; opening and reusing 28 miles of existing temporary roads, constructing and using 4.4 miles of new temporary roads; and closure of 32.4 miles of temporary roads by pulling culverts, outsloping and water-barring, and in some site-specific cases, seeding, tilling or re-contouring; application of magnesium chloride on system roads to alleviate dusting; and closure of some system roads temporarily during harvest for public safety; (9) logs will be placed in designated portions of East Creek to create desired pool/riffle ratios; (10) One road (0.4 miles) immediately adjacent to Harvey Creek RCA will be decommissioned; (11) As needed, some areas of disturbed soils may be seeded with native grass and shrub species to minimize invasion by noxious weeds, and (12) Small Business Administration (SBA) set-aside is currently estimated at 68% of timber sale volume, with SBA sales ranging from 5-10 million board feet (MMBF).

DATES: Comments identifying issues concerning the effects of the proposal should be postmarked on or before January 28, 2002 to receive timely consideration in the draft EIS.

ADDRESSES: Submit written comments to: Douglas Schultz, Team Leader, USDA Forest Service, P.O. Box 220, Cedarville, CA 96104. Send electronic comments to: dschultz@fs.fed.us. Please reference the Blue Fire Forest Recovery Project on the subject line. Also, include your name and mailing address with your comments so documents pertaining to this project may be mailed to you. Comments received, including names and addresses of those who comment, will become part of the public record and may be subject to public disclosure. Any person may request the Agency to withhold a submission from the public record by showing how the Freedom of Information Act permits such confidentiality.

FOR FURTHER INFORMATION CONTACT: Douglas Schultz, Team Leader, at 530-279-6116 or Edith Asrow, District Ranger, Warner Mountain Ranger District, at 530-279-6116.

SUPPLEMENTARY INFORMATION: The information presented in this notice is included to help the reviewer determine if they are interested in or potentially affected by the proposed land management activities. The information presented in this notice is summarized. Those who wish to provide comments, or are otherwise interested in the project, are encouraged to obtain additional information from the contact identified in the FOR FURTHER INFORMATION CONTACT section.

Preliminary Issues

Two preliminary issues have been identified:

1. Fuel Treatment—The Forest Service will complete an analysis which will assess the benefits, problems and risks of fuel treatments. That analysis will consider: appropriate fuel levels (tons/ac) to retain on the land; size classes of fuels to remove to attain that level; and most appropriate methods of removing that fuel, including salvage logging and service contracts.

2. Environmental Restoration—The Forest Service will complete an analysis that will assess the benefits, problems and risks of actions which will restore or protect desired environmental conditions, including reforestation and associated activities, decommissioning of 0.4 miles of existing road adjacent to Harvey Creek, depositing woody debris in East Creek to improve pool/riffle ratio, and maintaining wider tree spacing in Urban Intermix and Strategically Placed fuel treatments.

Public Involvement

Additional information concerning the proposal can be accessed on the internet at www.r5.fs.fed.us/modoc/management/nepa/nepa.html.

Process Procedures and Timelines

On October 26, 2001, the Modoc National Forest began a Scoping Period for a proposed Action for the Blue Fire Forest Recovery Project Environmental Assessment. A Legal Notice of the proposed action was published in the Modoc County Record on October 25, 2001, and a Scoping Summary description was mailed to approximately 220 persons or groups. The Scoping Period for this proposed action closed November 26, 2001. Comments were received from 32 commenters.

Since the close of the original scoping period, the Forest Service decided to prepare an Environmental Impact Statement. The original proposed action was slightly modified, and is described above. All comments received from the earlier scoping period will be considered in the EIS, unless respondent submits new comments indicating changes to prior submissions.

The draft EIS is expected to be filed with the Environmental Protection Agency and available for public review by May 2002. The comment period on the draft EIS will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519 553 [1978]). Also, environmental objection that could be raised at the draft environmental impact statement state but that are not raised until after completion of the final environmental impact statement stage may be waived or dismissed by the courts (City of Angoon v. Hodel, 803 F.2nd 1016, 1022 [9th Cir. 1986] and Wisconsin Heritages, Inc. v. Harris, 490 F. Supp. 1334, 1338 [E.D. Wis. 1980]).

Because of the above rulings, it is very important that those interested in this proposed action participate by the close of the 45-day comment period so that substantive comments are made available to the Forest Service at a time when they can be meaningfully considered and responded to in the final environmental impact statement. Comments on the draft environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at 40 CFR 1503.3 in addressing these points. After the comment period ends on the draft EIS, the comments received will be analyzed and considered by the Forest Service in preparing the final EIS.

The final EIS is scheduled to be completed in September, 2002. In the final EIS, the Forest Service is required to respond to the comments received (40 CFR 1503.4). The responsible official will consider the comments, responses, environmental consequences discussed in the environmental impact statement, and applicable laws, regulations and policies in making a decision regarding this proposal. The responsible official will document the decision and reasons for the decision in a Record of Decision. That decision will be subject to appeal under 36 CFR part 215.

The responsible official is Dan Chisholm, Forest Supervisor, Modoc National Forest, 800 W. 12th St., Alturas CA, 96101.

Dated: December 19, 2001.
Dan Chisholm,
Forest Supervisor.

[FR Doc. 01-31910 Filed 12-27-01; 8:45 am]

BILLING CODE 3410-11-U